DEPARTMENT OF AGRICULTURE

Forest Service

National Forests in Alabama Resource Advisory Committee

AGENCY: Forest Service, USDA.

ACTION: Notice of meeting.

SUMMARY: The National Forests in Alabama Resource Advisory Committee (RAC) will meet virtually. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following website: https://www.fs.usda.gov/main/pts/specialprojects/racweb.

DATES: The meeting will be held on Friday, July 31, 2020, from 9:00 a.m.-2:00 p.m.

All RAC meetings are subject to cancellation. For status of the meeting prior to attendance, please contact the person listed under FOR FURTHER INFORMATION CONTACT.

ADDRESSES: The meeting will be held with virtual attendance only. For virtual meeting information, please contact the person listed under FOR FURTHER INFORMATION CONTACT.

Written comments may be submitted as described under SUPPLEMENTARY INFORMATION. All comments, including names and addresses when provided, are placed in the record and are available for public inspection and copying. The public may inspect comments received at the National Forests in Alabama Supervisor's Office. Please call ahead to set an appointment and facilitate entry into the building.

FOR FURTHER INFORMATION CONTACT: Sheila Holifield, RAC Coordinator, by phone at 334-235-5494 or via email at sheila.holifield@usda.gov; or Tammy Freeman Brown, Designated Federal Officer, by phone at 334-315-4926 or via email at tammy.freemanbrown@usda.gov.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to review, discuss, recommend, and approve new Title II projects. The meeting is open to the public. The agenda will include time for people to make oral statements of three minutes or less. Individuals wishing to make an oral statement should request in writing by Tuesday, July 21, 2020, to be scheduled on the agenda. Anyone who would like to bring related matters to the attention of the RAC may file written statements with the RAC staff before or after the meeting. Written comments and requests for time for oral comments must be sent to Sheila Holifield, RAC Coordinator by email to sheila.holifield@usda.gov.

Meeting Accommodations: If you are a person requiring reasonable accommodation, please make requests in advance for sign language interpreting, assistive listening

devices, or other reasonable accommodation. For access to the facility or proceedings, please contact the person listed in the section titled FOR FURTHER INFORMATION CONTACT. All reasonable accommodation requests are managed on a case-by-case basis.

Cikena Reid,
USDA Committee Management Officer.

[FR Doc. 2020-14239 Filed 7-1-20; 8:45 am]

BILLING CODE 3411-15-P